DEPARTMENT OF COMMERCE

National Oceanic and Atmospheric Administration

RIN 0648-XE387

South Atlantic Fishery Management Council; Public Meetings

AGENCY: National Marine Fisheries Service (NMFS), National Oceanic and Atmospheric Administration (NOAA), Commerce.

ACTION: Notice of Public Hearings/Scoping and Advisory Panel Meeting.

SUMMARY: The South Atlantic Fishery Management Council (SAFMC) will hold a series of public hearings/scoping meetings pertaining to Amendments 41 and 37 to the Snapper Grouper Fishery Management Plan (FMP) for the South Atlantic, and Atlantic Generic Charterboat/Headboat Reporting Amendment, and Amendment 26 to the Coastal Migratory Pelagic (mackerel) Fishery Management Plan for the Gulf of Mexico and South Atlantic. Scoping comments will be accepted for Snapper Grouper Amendment 41 addressing management measures for mutton snapper. Public Hearings will be held for Snapper Grouper Amendment 37 pertaining to management measures for hogfish, the Atlantic Charterboat/Headboat Reporting Amendment, and Mackerel Amendment 26 addressing management measures for king mackerel in the Gulf of Mexico and South Atlantic. Note that the Florida Fish and Wildlife Conservation Commission (FWC) will solicit public input on mutton snapper management measures for Florida State waters during selected public hearing/scoping meetings held in Florida (see DATES and SUPPLEMENTARY INFORMATION). The Council will also hold a meeting of its Mackerel Advisory Panel in conjunction with the public hearing/scoping meeting scheduled in Cocoa Beach, FL.

DATES: The series of public hearings/scoping meetings will be held from January 25-February 8, 2016. The public hearing/scoping meetings will be held from 4 p.m. until 7 p.m. with the exception of the public hearing/scoping meeting in Morehead City that will begin at 5 p.m. and a public hearing via webinar that will begin at 6 p.m. The meeting of the Mackerel Advisory Panel will be held from 12 p.m. until 4 p.m. on February 3, 2016 in Cocoa Beach, FL. See SUPPLEMENTARY INFORMATION.

Registration is required for the public hearing/scoping meeting via webinar. Registration information will be posted on the SAFMC Web site at www.safmc.net as it becomes available.

ADDRESSES: See SUPPLEMENTARY INFORMATION for specific meeting locations.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearing/scoping meetings will be held on the following dates and locations:

1. January 25, 2016—Richmond Hill City Center, 520 Cedar Street, Richmond Hill, GA 31324; phone: (912) 445-0043.

2. January 26, 2016—Hilton Garden Inn Charleston Airport, 5265 International Boulevard, North Charleston, SC 29418; phone: (843) 308-9330.

3. January 27, 2016—Murrells Inlet Community Center, 4450 Murrells Inlet Road, Murrells Inlet, SC 29576; phone: (843) 651-7373.

4. January 28, 2016—NC Division of Marine Fisheries, Central District Office, 5285 Highway 70 West, Morehead City, NC 28557; phone: (252) 726-7021.

5. February 1, 2016—Hilton Garden Inn, 180 SW 18th Avenue, Dania Beach, FL 33004; phone: (954) 924-9204. This hearing will be held in conjunction with FWC.

6. February 2, 2016—Hawks Cay Resort, 61 Hawks Cay Blvd., Duck Key, FL 33050; phone: (305) 743-7000. This hearing will be held in conjunction with FWC.

7. February 3, 2016—Marriott Beachside Hotel, 3841 N. Roosevelt Blvd., Key West, FL 33040; phone: (305) 296-8100. This hearing will be held in conjunction with FWC.

8. February 3, 2016—International Palms Resort & Conference Center, 1300 North A1A, Cocoa Beach, FL 32931; phone: (321) 783-2271. A meeting of the Council's King and Spanish Mackerel Advisory Panel will be held in conjunction with this public hearing.

9. February 8, 2016—Public hearings via webinar beginning at 6 p.m. for the Atlantic Charter/For-Hire Reporting Amendment and Coastal Migratory Pelagic Amendment 26.

The Council is soliciting public scoping comments on proposed measures in Amendment 41 to the Snapper Grouper FMP addressing mutton snapper. The measures are based on a recent stock assessment for mutton snapper and include specifying the Maximum Sustainable Yield (MSY), Maximum Stock Size Threshold (MSST), revising the Annual Catch Limit (ACL) and Optimum Yield (OY) and recreational Annual Catch Target. The amendment also includes options to modify the recreational bag limit.

Public hearings are being held for the following amendments:

1. Atlantic Generic Charter/For-Hire Reporting Amendment to the South Atlantic Snapper Grouper, Atlantic Dolphin Wahoo and Coastal Migratory Pelagic fisheries. The amendment includes actions to require mandatory electronic reporting for charter (six-pack) vessels and modifies existing reporting requirements for headboats. The reporting requirements would affect vessels involved in the South Atlantic Snapper Grouper fishery, Dolphin Wahoo fishery, and Coastal Migratory Pelagic fishery along the Atlantic coast.

2. Amendment 37 to the Snapper Grouper FMP addressing hogfish. The amendment includes actions to modify the management boundary between the South Atlantic and Gulf of Mexico, establish two separate stocks in the South Atlantic with a “Georgia/North Carolina” stock and a “Florida Keys/East Florida” stock for management purposes, specify the MSY, MSST, ACLs and ACTs for both stocks and establish a rebuilding plan for the Florida Keys/East Florida stock. The rebuilding plan includes measures to increase the minimum size limit, establish a commercial trip limit, reduce the recreational bag limit, and establish a recreational fishing season. The amendment would also establish Accountability Measures for both stocks.

3. Coastal Migratory Pelagic Amendment 26 addresses management measures for Atlantic and Gulf of Mexico king mackerel. Actions in the amendment include modifying the management/stock boundary for Gulf and Atlantic migratory groups of king mackerel, updating the biological reference points and revising the ABC, OY, ACLs and recreational ACT for Atlantic Group king mackerel, creating an incidental catch allowance of Atlantic group king mackerel caught in the shark gillnet fishery, establishing split season commercial quotas for harvest of Atlantic group king mackerel in the Southern Zone, and establishing boundaries and trip limits for a [new] Florida East Coast management zone for Atlantic group king mackerel. The amendment includes the following actions specific to Gulf group king mackerel: Update biological reference points and revise the ACL, revise the commercial zone quotas, revise the recreational and commercial allocation, and modify recreational bag limit.

Mackerel Advisory Panel Meeting

The Council will hold a meeting of its King and Spanish Mackerel Advisory Panel in conjunction with the public hearing scheduled for February 3, 2016, from 12 p.m. until 4 p.m. The advisory panel will review Coastal Migratory Pelagic Amendment 26 and the Atlantic Generic For-Hire/Charterboat Reporting Amendment and provide recommendations.

Written comments on the amendments may be directed to Gregg Waugh, Executive Director, SAFMC (see ADDRESSES) or via email to: Mike.Collins@safmc.net. Note that email comments should specify the name of the specific amendment(s) in the Subject Line of the email according to the comment being submitted. Public hearing and scoping comments for the amendments will be accepted until 5 p.m. on February 10, 2016. Copies of the public hearing documents for each amendment will be posted on the Council's Web site at www.safmc.net when they become available.

Special Accommodations

These meetings are physically accessible to people with disabilities. Requests for auxiliary aids should be directed to the council office (see ADDRESSES) 3 days prior to the meeting.

Note: The times and sequence specified in this agenda are subject to change.

Authority: 16 U.S.C. 1801 et seq.

Dated: January 5, 2016.
Jeffrey N. Lonergan,
Acting Deputy Director, Office of Sustainable Fisheries, National Marine Fisheries Service.

[FR Doc. 2016-00142 Filed 1-7-16; 8:45 am]

BILLING CODE 3510-22-P